DEPARTMENT OF THE INTERIOR

National Park Service

[NPS-WASO-NAGPRA-NPS0039409; PPWOCRADN0-PCU00RP14.R50000]

Notice of Inventory Completion: Ohio History Connection, Columbus, OH

AGENCY: National Park Service, Interior.

ACTION: Notice.

SUMMARY: In accordance with the Native American Graves Protection and Repatriation Act (NAGPRA), the Ohio History Connection has completed an inventory of human remains and associated funerary objects and has determined that there is a cultural affiliation between the human remains and associated funerary objects and Indian Tribes or Native Hawaiian organizations in this notice.

DATES: Repatriation of the human remains and associated funerary objects in this notice may occur on or after April 16, 2025.

ADDRESSES: Nekole Alligood, NAGPRA Specialist, Ohio History Connection, 800 E 17th Avenue, Columbus, OH 43211, telephone (614) 297-2300, email nalligood@ohiohistory.org.

SUPPLEMENTARY INFORMATION: This notice is published as part of the National Park Service's administrative responsibilities under NAGPRA. The determinations in this notice are the sole responsibility of the Ohio History Connection, and additional information on the determinations in this notice, including the results of consultation, can be found in its inventory or related records. The National Park Service is not responsible for the determinations in this notice.

Abstract of Information Available

Human remains representing, at least, 1,399 individuals have been identified from Wood County, Ohio. The 4,661 associated funerary objects are faunal remains (both modified and unmodified), debitage and stone tools, pottery sherds, beads, pipes and pipe pellets, ocher, birdstone, and soil samples.

Rossford Village Site (33 WO 2, accession number A 3731) is located in Rossford, Wood County, Ohio. Human remains representing, at least, 11 individuals have been identified from this site and the 72 associated funerary objects are faunal remains, debitage, and ceramic sherds. The individuals and materials in this collection were excavated by Stanley R. Walters, who donated the collection to Ohio History Connection on June 4, 1961. The site dates to C.E. 900 to 1650 (Late Pre-Contact; Erie Tradition). On an unknown date, consolidants were applied to the individuals.

Williams Kame Site (33 WO 7, accession number A 4189 and A 5836) is located in Perrysburg, Wood County, Ohio. Human remains representing, at least, 798 individuals have been identified from this site and the 2,529 associated funerary objects are debitage and stone tools, faunal remains (both modified and unmodified), beads, birdstone, ocher, pipes and pipe pellets, and soil samples. This collection was recovered from the site during excavations by Earl Prahl, University of Toledo, in 1969 and David Stothers, University of Toledo, in the early 1970s. Lucille Williams donated the collection to Ohio History Connection on December 16, 1987. The site dates to 3,000 to 800 B.C.E. (Late Archaic; Glacial Kame).

Human remains from “Bowling Green, near Pemberville” (accession number A 5523/000010) represents, at least, one individual. This individual was found eroded from the roots of a tree. The individual was brought to the Lucas County Coroner's Office and then donated to Ohio History Connection in 2019.

Biggers Site (33 WO 6, accession number A 5709) is located in Perrysburg, Wood County, Ohio. Human remains representing, at least, 20 individuals have been identified from this site and the 22 associated funerary objects are a ceramic vessel, faunal remains, chert fragments, and tacks. Individuals from the Biggers site were donated to Firelands Archaeological Research Center by Stothers (of University of Toledo), who then donated the individuals to Ohio History Connection to go through the NAGPRA process. The site dates to 800 B.C.E.-C.E. 900 (Woodland). On an unknown date, tape, ink, and glue was applied to some of the individuals.

Black's Knoll Site (33 WO 447 previously 33 WO 7b, accession number A 5710) is located in Perrysburg, Wood County, Ohio. Human remains representing, at least, 132 individuals have been identified from this site and the 86 associated funerary objects are pottery sherds, faunal remains, debitage and a stone tool, and charcoal. Individuals from the Black's Knoll site were donated to Firelands Archaeological Research Center by Stothers (of University of Toledo), who then donated the individuals to Ohio History Connection to go through the NAGPRA process. The site dates to C.E. 1360+/−150 (Mississippian). On an unknown date, tape, ink, and consolidants were applied to some of the individuals.

Dodge Site (33 WO 9, accession number A 5717) is located in Perrysburg Township, Wood County, Ohio. Human remains representing, at least, 36 individuals have been identified from this site and the three associated funerary objects are faunal remains (two modified). Some of the individuals and belongings from the Dodge site were excavated in 1976 and donated to Firelands Archaeological Research Center by Stothers (of University of Toledo), who then donated the individuals to Ohio History Connection to go through the NAGPRA process. Additional ancestors were likely collected by Ronald Shegitz between 1985-1995, who were then given to the Henry County Coroner's Office by the collector's wife, Dorothy Shegitz. The Henry County Coroner's Office then transferred these individuals to Ohio History Connection to go through the NAGPRA process in 2023). The site dates to 100 B.C.E. to CE 500 (Middle Woodland). On an unknown date, tape, ink, and consolidants were applied to some of the individuals.

Indian Hills Site (33 WO 4, accession number A 5724) is located in Rossford, Ross Township, Wood County, Ohio. Human remains representing, at least, 247 individuals have been identified from this site and the 1,890 associated funerary objects are pottery sherds, debitage and stone tools, faunal remains, pipes, charcoal, and beads. Individuals were donated to Firelands Archaeological Research Center by Stothers (of University of Toledo), who then donated the individuals to Ohio History Connection to go through the NAGPRA process. The site dates to C.E. 900 to 1650 (Late Pre-Contact/Protohistoric). On an unknown date, tape, ink, and consolidants were applied to some of the individuals.

Lasalle Site (33 WO 42, accession number A 5726) is located in the vicinity of Waterville, Middleton Township, Wood County, Ohio. Human remains representing, at least, 120 individuals have been identified from the site. Individuals from the Lasalle site were donated to Firelands Archaeological Research Center by Stothers (of University of Toledo), who then donated the individuals to Ohio History Connection to go through the NAGPRA process. The site dates to 800 B.C.E. to C.E. 900 (Woodland). On an unknown date, tape, ink, and consolidants were applied to some of the individuals.

Lyons #1 Site (33 WO 59, accession number A 5727) is located in Middleton Township, Wood County, Ohio. Human remains representing, at least, two individuals have been identified from the site and the 45 associated funerary objects are debitage and stone tools, miscellaneous stones, pottery sherds, charcoal, and faunal remains. Individuals from the Lyons #1 were donated to Firelands Archaeological Research Center by Stothers (of University of Toledo), who then donated the individuals to Ohio History Connection to go through the NAGPRA process. The site dates to C.E. 500 to 900 (Late Woodland).

MacNichol Site (33 WO 10, accession number A 5728) is located in Perrysburg, Wood County, Ohio. Human remains representing, at least, one individual have been identified from the site and the seven associated funerary objects are faunal remains and debitage. Individuals from the MacNichol site, a fish processing site, were donated to Firelands Archaeological Research Center by Stothers (of University of Toledo), who then donated the individuals to Ohio History Connection to go through the NAGPRA process. The site dates to C.E. 500 to 900 (Late Woodland; Younge Tradition). On an unknown date, ink and tape were applied to the individual.

Orleans Site (33 WO 74, accession number A 5734) is located in Perrysburg, Wood County, Ohio. Human remains representing, at least, one individual have been identified from the site. Individuals from the Orleans Park were donated to Firelands Archaeological Research Center by Stothers (of University of Toledo), who then donated the individuals to Ohio History Connection to go through the NAGPRA process. The site dates to C.E. 900-1650 (Late Pre-contact).

Polo Grounds Site (33 WO 80, accession number A 5738) is located in Perrysburg, Fort Meigs Township, Wood County, Ohio. Human remains representing, at least, 13 individuals have been identified from the site and the two associated funerary objects are faunal remains. Individuals from the Polo Grounds site were donated to Firelands Archaeological Research Center by Stothers (of University of Toledo), who then donated the individuals to Ohio History Connection to go through the NAGPRA process. The site dates to 13,000 B.C.E. to C.E. 1650 (general pre-contact). On an unknown date, tape, ink, and consolidants were applied to some of the individuals.

Saunders Site (33 WO 56, accession number A 5740) is located in Waterville, Middleton Township, Wood County, Ohio. Human remains representing, at least, 13 individuals have been identified from the site and the five associated funerary objects are faunal remains and debitage. Individuals from the Saunders site were excavated in 1978 and donated to Firelands Archaeological Research Center by Stothers (of University of Toledo), who then donated the individuals to Ohio History Connection to go through the NAGPRA process. The site dates to C.E. 500 to 900 (Late Woodland). On an unknown date, tape, ink, and consolidants were applied to some of the individuals.

Unknown Wood County individuals (accession number A 5523/000020) are from an unknown location in Wood County. Human remains representing, at least, four individuals have been identified. The individuals were brought to the Lucas County Coroner's Office and then donated to Ohio History Connection in 2019.

Cultural Affiliation

Based on the information available and the results of consultation, cultural affiliation is reasonably identified by the geographical location or acquisition history of the human remains and associated funerary objects described in this notice.

Determinations

The Ohio History Connection has determined that:

• The human remains described in this notice represent the physical remains of 1,399 individuals of Native American ancestry.

• The 4,661 objects described in this notice are reasonably believed to have been placed intentionally with or near individual human remains at the time of death or later as part of the death rite or ceremony.

• There is a connection between the human remains and associated funerary objects described in this notice and the Absentee-Shawnee Tribe of Indians of Oklahoma; Bad River Band of the Lake Superior Tribe of Chippewa Indians of the Bad River Reservation, Wisconsin; Bay Mills Indian Community, Michigan; Cayuga Nation; Chippewa Cree Indians of the Rocky Boy's Reservation, Montana; Citizen Potawatomi Nation, Oklahoma; Eastern Shawnee Tribe of Oklahoma; Forest County Potawatomi Community, Wisconsin; Grand Traverse Band of Ottawa and Chippewa Indians, Michigan; Hannahville Indian Community, Michigan; Kaw Nation, Oklahoma; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Little Shell Tribe of Chippewa Indians of Montana; Little Traverse Bay Bands of Odawa Indians, Michigan; Match-e-be-nash-she-wish Band of Pottawatomi Indians of Michigan; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan; Omaha Tribe of Nebraska; Oneida Indian Nation; Oneida Nation; Onondaga Nation; Ottawa Tribe of Oklahoma; Peoria Tribe of Indians of Oklahoma; Pokagon Band of Potawatomi Indians, Michigan and Indiana; Ponca Tribe of Indians of Oklahoma; Ponca Tribe of Nebraska; Prairie Band Potawatomi Nation; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Saint Regis Mohawk Tribe; Sault Ste. Marie Tribe of Chippewa Indians, Michigan; Seneca Nation of Indians; Seneca-Cayuga Nation; Shawnee Tribe; Sokaogon Chippewa Community, Wisconsin; St. Croix Chippewa Indians of Wisconsin; Tonawanda Band of Seneca; Turtle Mountain Band of Chippewa Indians of North Dakota; Tuscarora Nation; and the Wyandotte Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after April 16, 2025. If competing requests for repatriation are received, the Ohio History Connection must determine the most appropriate requestor prior to repatriation. Requests for joint repatriation of the human remains and associated funerary objects are considered a single request and not competing requests. The Ohio History Connection is responsible for sending a copy of this notice to the Indian Tribes and Native Hawaiian organizations identified in this notice.

Authority: Native American Graves Protection and Repatriation Act, 25 U.S.C. 3003, and the implementing regulations, 43 CFR 10.10.

Dated: January 23, 2025.
Melanie O'Brien,
Manager, National NAGPRA Program.

[FR Doc. 2025-04193 Filed 3-14-25; 8:45 am]

BILLING CODE 4312-52-P